Proclamation 7285 of March 31, 2000

National Child Abuse Prevention Month, 2000

By the President of the United States of America

A Proclamation

Children are our link to the future and our hope for a better tomorrow. Within a few short years, we will look to today's children for the vision, strength, creativity, and leadership to guide our Nation through the challenges of this new century. If they are to grow into healthy, happy adults and responsible citizens, we must provide our children with the love, nurturing, and protection they need and deserve.

However, many of America's children are not safe, even in their own homes. The statistics are staggering. Every year, there are nearly one million reported incidents of child abuse; and even more disturbing, more than 2,000 of these incidents result in the child's death. Whether suffering neglect, harsh physical punishment, sexual abuse, or psychological trauma, the children who survive will carry the scars of their abuse for the rest of their lives.

We now know that there are a variety of risk factors that contribute to child abuse and neglect—including parental substance abuse, lack of parenting skills and knowledge, domestic violence, or extreme stress—and there are practical measures and programs we can use to mitigate such factors. Social service providers can offer substance abuse programs for adults with children; schools can offer educational programs to teach parenting skills to teen mothers or instruct children on how to protect themselves from sexual predators; faith organizations can offer respite care for parents of children with special needs; and employers can introduce family-friendly policies, from child care to parental leave to flexible work schedules, to reduce the stress on working families.

Keeping children safe is a community responsibility, and prevention must be a community task. Every segment of society must be involved, including health and law enforcement professionals, schools, businesses, the media, government agencies, community and faith organizations, and especially parents themselves. Teachers and physicians need to recognize the symptoms of child abuse; parents need to ask for help in overcoming addictions or controlling violent behavior; communities must be willing to fund programs and services to protect children from abuse; and the media needs to raise public awareness of the availability of those programs and services.

My Administration is committed to doing its part to ensure the health and well-being of all our Nation's children. We have worked to increase funding at the State level for child protection programs and family preservation services. Working with the Congress, we have enacted the Child Abuse Prevention and Treatment Act and the Adoption and Safe Families Act, and we have established the Safe and Stable Families Program. Just a few weeks ago, I signed into law the Child Abuse Prevention and Enforcement Act, which gives State and local officials greater flexibility in using Department of Justice grant programs to prevent child abuse and neglect. This new legislation will increase funding to enforce child abuse and neglect laws, to enhance the investigation of child abuse and neglect crimes, and to promote programs to prevent such abuse and neglect. Through these and other measures, we continue our efforts to create a society where every child is cherished and no child bears the lasting scars of abuse or neglect.

NOW, THEREFORE, I, WILLIAM J. CLINTON, President of the United States of America, by virtue of the authority vested in me by the Constitution and laws of the United States, do hereby proclaim April 2000 as National Child Abuse Prevention Month. I call upon all Americans to observe this month by demonstrating our gratitude to those who work to keep our children safe, and by taking action in our own communities to make them healthy places where children can grow and thrive.

IN WITNESS WHEREOF, I have hereunto set my hand this thirty-first day of March, in the year of our Lord two thousand, and of the Independence of the United States of America the two hundred and twenty-fourth.

wj

[FR Doc. 00-8570

Filed 4-4-00; 8:45 am]

Billing code 3195-01-P